DEPARTMENT OF COMMERCE

National Institute of Standards and Technology

National Conference on Weights and Measures: Interim Meeting

AGENCY: National Institute of Standards and Technology, Commerce.

ACTION: Notice of a public meeting of the Conference in January 2006.

SUMMARY: The Interim Meeting of the 91st National Conference on Weights and Measures (NCWM) will be held January 22 through 25, 2006, at the Omni Jacksonville Hotel in Jacksonville, Florida. This meeting is open to the public. Detailed meeting agendas and information on registration requirements, fees and hotel information can be found at http://www.ncwm.net. The NCWM is an organization of weights and measures officials of the states, counties, and cities of the United States, Federal Agencies, and private sector representatives. This meeting brings together government officials and representatives of business, industry, trade associations, and consumer organizations to consider subjects related to the field of weights and measures technology, administration and enforcement. Pursuant to (15 U.S.C. 272(b)(6)), the National Institute of Standards and Technology (NIST) supports the NCWM as one of several means it uses to solicit comments and recommendations on revising or updating a variety of publications related to legal metrology and to promote uniformity among the States in laws, regulations, methods, and testing equipment that comprises regulatory control of commercial weighing and measuring devices and practices. Publication of this Notice by the NIST on the NCWM's behalf is being undertaken as a public service; NIST does not necessarily endorse, approve, or recommend any of the proposals contained in the notice.

DATES: January 22-25, 2006.

ADDRESSES: The Omni Jacksonville Hotel, Jacksonville, Florida.

SUPPLEMENTARY INFORMATION: The NCWM has the following topics scheduled for discussion and development at its Interim Meeting. At this stage, the items are proposals. This meeting includes work sessions in which Committees take public comments and develop or finalize recommendations for possible adoption in July 2006 at the 91st NCWM Annual Meeting. Committees may also withdraw or carryover items that need additional development. Please see NCWM Publication 15, which is available on the NCWM Web site at http://www.ncwm.net for additional information. The following are brief descriptions of some significant agenda items that will be considered at the meeting. Comments will be taken on these items during the public comment sessions to be held at the meeting.

The NCWM Specifications and Tolerances Committee will consider proposed amendments to NIST Handbook 44, “Specifications, Tolerances, and other Technical Requirements for Weighing and Measuring Devices.” Those items address weighing and measuring devices that may be used in commercial measurement applications, that is, devices that are normally used to buy from or sell to the general public or used for determining the quantity of product sold among businesses. Issues on the agenda of the NCWM Laws and Regulations Committee relate to proposals to amend NIST Handbook 130, “Uniform Laws and Regulations in the area of legal metrology and engine fuel quality,” or NIST Handbook 133, “Checking the Net Contents of Packaged Goods.” This notice contains information about significant items on the NCWM Committee agendas so several issues are not presented in this notice so the following items are not consecutively numbered.

NCWM Specifications and Tolerances Committee

The following items are proposals to amend NIST Handbook 44, “Specifications, Tolerances and other Technical Requirements for Weighing and Measuring Devices.”

General Code

Item 310-1. Software for Not-Built for Purpose Devices: the issue addresses an extensive series of marking requirements for commercial measurement systems. In particular, the topic examines which marking requirements should apply to electronic instruments not specifically designed for weighing or measuring systems.

Item 310-3. Multiple Weighing or Measuring Elements with a Single Provision for Sealing: the proposal would require new liquid-measuring devices to identify when an adjustment is made to any measuring element which has multiple measuring elements but that is only equipped with a single provision for sealing.

Item 310-4. Applicable Tolerances for Type Evaluation: the issue seeks to clarify the tolerances to be applied during the type evaluation of weighing and measuring devices.

Scales Code

Item 320-1. Zero Indication; Requirements for Markings or Indications for Other than Digital Zero Indications: this item would clarify the requirement's original intent for marking zero indications on scales and point-of-sale systems where a zero is represented by other than a digital indication of zero.

Item 320-3. Revise Shift Test for Scales: this item would modify requirements for the placement of test weights and test loads on weighing devices.

Item 320-5. Maintenance Tolerances: this item is a proposal to align tolerances in NIST Handbook 44 with recommendations for nonautomatic scales from Organization of International Legal Metrology (OIML).

Item 320-6. Time Dependence Tests: this is a proposal to align the type approval requirements for the time dependence (creep) test for scales and load cells with OIML requirements.

Item 320-8. Computing Scale Interfaced to a Cash Register: this proposal is intended to address the proper interface of computing scales with Electronic Cash Registers (ECRs) and to clarify how each component must display transaction information, function in taking tare, and operate with Price-Look-Up (PLU) capability.

Item 320-11. Acceptable International Symbols: this is a proposal to include a list of accepted international symbols for marking operational controls, indications and features on scales in NIST Handbook 44.

Belt-Conveyor Scale Systems

Item 321-1. Official and As-found Tests: the purpose of this item is to improve the accuracy of these systems by encouraging users to conduct random as-found tests and to improve their recordkeeping concerning scale maintenance and performance.

Liquid-Measuring Devices

Item 330-4. Diversion of Measured Flow: this item is a proposal to revise requirements for valves and piping on liquid measuring devices so that they are consistent through-out the handbook.

Vehicle-Tank Meters

Item 331-3. Temperature Compensation: this proposal would add a number of specifications, test notes, and tolerances to recognize automatic temperature compensation on vehicle-tank meters and specify the tests to be conducted on meters equipped with automatic temperature compensation. Temperature compensation is under consideration by the Laws and Regulations Committee as described below in Item 232-1.

Cryogenic Liquid Measuring Devices 334-1 Provision for Security Seals: this is a proposal to add a requirement that these meters have electronic security seals.

NCWM Laws and Regulations Committee

The following items are proposals to amend NIST Handbook 130, “Uniform Laws and Regulations—in the Areas of Legal Metrology and Engine Fuel Quality.”

Method of Sale of Commodities Regulation

Item 232-1. Temperature Compensation: add provisions to permit the temperature compensation of refined petroleum products to the volume at 15 °C (60 °F) for deliveries in both wholesale and retail (service station) transactions.

Item 232-2. Biodiesel and Fuel Ethanol Labeling: this item requires the identification and labeling of biodiesel fuels and blends at retail service stations.

Engine Fuels, Petroleum Products, and Automotive Lubricants Regulation

Item 237-1. Premium Diesel Lubricity: this is a proposal to amend the lubricity requirement for premium diesel fuel to make them consistent with the appropriate ASTM standard for this product.

Interpretations and Guidelines and Others

Item 250-2. Guideline for the Method of Sale of Fresh Fruits and Vegetables: this is a proposal to allow farmers' markets and other retailers to sell products by various methods of sale including weight, measure or count.

NIST Handbook 133 “Checking the Net Contents of Packaged Goods”

Item 260-1. Moisture Loss in Packaged Goods: this item proposes to add guidance regarding moisture loss from packaged goods.

FOR FURTHER INFORMATION CONTACT: Ken Butcher, NIST, Weights and Measures Division, 100 Bureau Drive, Stop 2600, Gaithersburg, MD 20899-2600. Telephone (301) 975-4859, or e-mail: kbutcher@nist.gov.

Dated: January 3, 2006.
William Jeffrey,
Director.

[FR Doc. E6-471 Filed 1-17-06; 8:45 am]

BILLING CODE 3510-13-P